DEPARTMENT OF JUSTICE

[OMB 1140-0043]

Agency Information Collection Activities; Proposed eCollection eComments Requested; Revision of a previously approved collection Title—National Tracing Center (NTC) Trace Request/Solicitud de Rastreo del Centro Nacional de Rastreo (NTC)

AGENCY: Bureau of Alcohol, Tobacco, Firearms and Explosives, Department of Justice

ACTION: 60-Day notice.

SUMMARY: The Bureau of Alcohol, Tobacco, Firearms, and Explosives (ATF) of the Department of Justice, will be submitting the following information collection request to the Office of Management and Budget (OMB) for renewal review and approval in accordance with the Paperwork Reduction Act of 1995.

DATES: Comments are encouraged and will be accepted for 60 days until October 6, 2025.

FOR FURTHER INFORMATION CONTACT: If you have additional comments, especially on the estimated public burden or associated response time, suggestions, or need a copy of the proposed information collection instrument with instructions or additional information, contact: Carrie Robertson, National Tracing Center Division, either by mail at 244 Needy Road; Suite 1500, Martinsburg, WV 25405, by email at carrie.robertson@atf.gov, or by telephone at 304-260-1695.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: Law enforcement agencies (LEAs) at all levels submit requests to ATF to trace guns used in crimes. So that ATF may swiftly and accurately provide responsive information on these crime guns, ATF requests LEAs to submit certain information on Form 3312.1 that will aid ATF in tracing the firearm. ATF reports the resulting information only to the requesting LEA and does not create a registry of firearms in the process. ATF is revising information collection (IC) OMB 1140-0043 to include an increase in respondents from 1,153 annually to 17,000 since the last renewal period, a difference of 15,847 per year. This is due to more law enforcement agencies submitting more trace requests each year. The adjustments therefore also include an increase in the total number of trace requests from 24,490 during the last renewal to 510,000 now. Consequently, the total burden hours have also increased from 2,449 to 51,000, resulting in a difference since the last renewal of 48,551 total annual hours.

Overview of this information collection:

1. Type of information collection: Revision of a previously approved collection.

2. Title of the form/collection: National Tracing Center (NTC) Trace Request/Solicitud de Rastreo del Centro Nacional de Rastreo (NTC).

3. The agency form number, if any, and the applicable component of the Department sponsoring the collection: Form number: ATF Form 3312.1/3312.1S.

Component: Bureau of Alcohol, Tobacco, Firearms, and Explosives; U.S. Department of Justice.

4. Affected public who will be asked or required to respond, as well as the obligation to respond: Affected public: State, local, and tribal governments. The trace requests are voluntary or as required by the state (not ATF); however, if the respondent wants the trace to be conducted, they must provide the requested information to obtain/retain that benefit.

5. An estimate of the total number of respondents and the amount of time estimated for an average respondent to respond: An estimated 17,000 respondents will respond to this collection with 30 requests per LEA, and it will take each respondent approximately 6 minutes (0.10 hours) to complete their responses.

6. An estimate of the total annual burden (in hours) associated with the collection: The estimated annual public burden associated with this collection is 51,000 total hours, which is equal to 17,000 (total respondents) * 30 (# of responses per respondent) * 6 minutes (0.10 hours).

7. An estimate of the total annual cost burden associated with the collection, if applicable: $2,443,920.

Table—Estimated Annualized Respondent Cost and Hour Burden
Activity | Number of respondents | Frequency | Total annual responses | Time per response | Total annual burden (hours) | Hourly rate | Monetized value of respondent time
LEA trace requests | 17,000 | 30 | 510,000 | 0.10 | 51,000 | $47.92 | $2,443,920

If you need additional information, contact: Darwin Arceo, Department Clearance Officer; United States Department of Justice; Justice Management Division, Policy and Planning Staff; Two Constitution Square; 145 N Street NE, 4W-218; Washington, DC.

Dated: July 31, 2025.
Darwin Arceo,
Department Clearance Officer for PRA, U.S. Department of Justice.

[FR Doc. 2025-14775 Filed 8-4-25; 8:45 am]

BILLING CODE 4410-FY-P